DEPARTMENT OF COMMERCE

International Trade Administration

[A-570-186, C-570-187]

Overhead Door Counterbalance Torsion Springs From the People's Republic of China: Antidumping Duty Order and Countervailing Duty Order

AGENCY: Enforcement and Compliance, International Trade Administration, Department of Commerce.

SUMMARY: Based on affirmative final determinations by the U.S Department of Commerce (Commerce) and the U.S. International Trade Commission (ITC), Commerce is issuing antidumping duty (AD) and countervailing duty (CVD) orders on overhead door counterbalance torsion springs (overhead door springs) from the People's Republic of China.

DATES: Applicable January 23, 2026.

FOR FURTHER INFORMATION CONTACT: Jacob Keller (AD) or Laurel Smalley (CVD) AD/CVD Operations, Offices I and VIII, Enforcement and Compliance, International Trade Administration, U.S. Department of Commerce, 1401 Constitution Avenue NW, Washington, DC 20230; telephone: (202) 482-4849 or (202) 482-3456, respectively.

SUPPLEMENTARY INFORMATION:

Background

In accordance with sections 705(d) and 735(d) of the Tariff Act of 1930, as amended (the Act), on August 15, 2025, Commerce published its affirmative final determinations of sales at less than fair value (LTFV) of overhead door springs from China,¹ and its affirmative final determination that countervailable subsidies are being provided to producers and exporters of overhead door springs from China.² On September 30, 2025, in accordance with sections 705(d) and 735(d) the Act, the ITC notified Commerce of its final affirmative determinations that an industry in the United States is materially injured by reason of dumped imports of overhead door springs from China, and subsidized imports of overhead door springs from China, within the meaning of sections 705(b)(1)(A)(i) and 735(b)(1)(A)(i) of the Act.³

¹ See Overhead Door Counterbalance Torsion Springs from the People's Republic of China: Final Affirmative Determination of Sales at Less-Than-Fair-Value and Final Affirmative Critical Circumstances Determination, in Part, 90 FR 39369 (August 15, 2025) (LTFV Final Determination).

² See Overhead Door Counterbalance Torsion Springs from the People's Republic of China: Final Affirmative Countervailing Duty Determination and Final Affirmative Critical Circumstances Determination in Part, 90 FR 39374 (August 15, 2025) (CVD Final Determination).

³ See ITC's Letter, “Notification of ITC Final Determinations,” dated September 30, 2025 (ITC Notification Letter).

Scope of the Orders

The product covered by these orders are overhead door springs from China. For a complete description of the scope of the orders, see the appendix to this notice.

AD Order

On September 30, 2025, in accordance with 735(d) of the Act, the ITC notified Commerce of its final determination that an industry in the United States is materially injured within the meaning of section 735(b)(1)(A)(i) of the Act by reason of imports of overhead door springs from China that are sold in the United States at LTFV.⁴ Therefore, in accordance with sections 735(c)(2) and 736 of the Act, Commerce is issuing this AD order. Because the ITC determined that imports of overhead door springs are materially injuring a U.S. industry, unliquidated entries of such merchandise from China, entered or withdrawn from warehouse for consumption, are subject to the assessment of antidumping duties.

⁴ Id.

Therefore, in accordance with sections 736(a)(1) of the Act, Commerce will direct U.S. Customs and Border Protection (CBP) to assess, upon further instruction by Commerce, antidumping duties equal to the amount by which the normal value of the merchandise exceeds the export price (or constructed export price) of the merchandise on all relevant entries of overhead door springs from China. Antidumping duties will be assessed on unliquidated entries of overhead door springs entered, or withdrawn from warehouse, for consumption on or after June 2, 2025, the date of the publication of the LTFV Preliminary Determination but will not include entries occurring after the expiration of the provisional measures period and before the publication of the ITC's final injury determination under section 705(b) of the Act, as further described in the “Provisional Measures- AD” section of this notice.⁵

⁵ See Overhead Door Counterbalance Torsion Springs from the People's Republic of China: Preliminary Affirmative Determination of Sales at Less-Than-Fair-Value, 90 FR 23311 (June 2, 2025) (LTFV Preliminary Determination).

Critical Circumstances—AD

In addition, the ITC found that critical circumstances do not exist with respect to imports of overhead door springs from China. As a result, we intend to instruct CBP to lift the suspension of liquidation and to refund all cash deposits for estimated antidumping duties with respect to entries of subject merchandise entered, or withdrawn from warehouse, for consumption on or after March 4, 2025 (i.e., 90 days prior to the date of publication of the affirmative LTFV Preliminary Determination), but before June 2, 2025 (i.e., the date of publication of the LTFV Preliminary Determination).⁶

⁶ See LTFV Preliminary Determination; see also Overhead Door Counterbalance Torsion Springs from India and the People's Republic of China: Preliminary Affirmative Determinations of Critical Circumstances, in Part, in the Less-Than-Fair Value Investigations, 90 FR 35662 (July 29, 2025).

Suspension of Liquidation and Cash Deposits—AD

In accordance with section 736 of the Act, Commerce intends to instruct CBP to reinstitute the suspension of liquidation of overhead door springs from China, effective on the date of publication of the ITC's final affirmative injury determination in the Federal Register. These instructions suspending liquidation will remain in effect until further notice. Commerce also intends to instruct CBP to require cash deposits equal to the estimated weighted-average dumping margins listed in the LTFV Final Determination.⁷ The rate for the China-wide entity applies to all producers and exporters not specifically listed, as appropriate.

⁷ See LTFV Final Determination, 90 FR at 39370.

These instructions suspending liquidation and cash deposit requirements will remain in effect until further notice.

Provisional Measures—AD

Section 733(d) of the Act states that suspension of liquidation pursuant to an affirmative preliminary determination may not remain in effect for more than four months, except where exporters representing a significant proportion of export of the subject merchandise request that Commerce extend the four-month period to no more than six months. In the underlying investigation, Commerce published the LTFV Preliminary Determination on June 2, 2025. Therefore, the four-month period beginning on the date of publication ended on September 29, 2025. Pursuant to section 737(b) of the Act, the collection of cash deposits will begin on the date of publication of the ITC's final injury determinations.

Therefore, in accordance with section 733(d) of the Act, Commerce will instruct CBP to terminate the suspension of liquidation and to liquidate, without regard to antidumping duties, unliquidated entries of overhead door springs from China entered, or withdrawn from warehouse, for consumption on or after September 30, 2025, the first day provisional measures were no longer in effect, until and through the day preceding the date of publication of the ITC's final injury determination in the Federal Register. Suspension of liquidation and the collection of cash deposits will resume on the date of publication of the ITC's final determination in the Federal Register.

CVD Order

As stated above, on September 30, 2025, the ITC notified Commerce of its final determination that an industry is materially injured within the meaning of section 705(b)(1)(A)(i) of the Act by reason of subsidized imports of overhead door springs from China.⁸ Therefore, in accordance with section 705(c)(2) of the Act, Commerce is issuing this countervailing duty order. Moreover, because the ITC determined that imports of overhead door springs from China are materially injuring a U.S. industry, unliquidated entries of such merchandise from China, entered or withdrawn from warehouse, for consumption, are subject to the assessment of countervailing duties.

⁸ See ITC Notification Letter.

Therefore, in accordance with section 706(a) of the Act, Commerce intends to direct CBP to assess, upon further instruction by Commerce, countervailing duties on unliquidated entries of overhead door springs from China entered, or withdrawn from warehouse, for consumption on or after April 3, 2025, the date of publication of the CVD Preliminary Determination, but will not include entries occurring after the expiration of the provisional measures period and before the publication of the ITC's final injury determination under section 705(b) of the Act, as further described in the “Provisional Measures—CVD” section of this notice.⁹

⁹ See Overhead Door Counterbalance Springs from the People's Republic of China: Preliminary Affirmative Countervailing Duty Determination and Alignment of Final Determination with Final Antidumping Duty Determination, 90 FR 14630 (April 3, 2025) (CVD Preliminary Determination).

Critical Circumstances—CVD

In addition, the ITC found that critical circumstances do not exist with respect to imports of overhead door springs from China. As a result, we intend to instruct CBP to lift suspension and to refund any cash deposits made to secure the payment of estimated countervailing duties with respect to entries of the subject merchandise entered, or withdrawn from warehouse, for consumption on or after January 3, 2025 (i.e., 90 days prior to the date of the publication of the CVD Preliminary Determination), but before April 3, 2025 (i.e., the date of publication of the CVD Preliminary Determination).¹⁰

¹⁰ See CVD Preliminary Determination; see also Overhead Door Counterbalance Torsion Springs from the People's Republic of China: Preliminary Affirmative Determination of Critical Circumstances, in Part, in the Countervailing Duty Investigation, 90 FR 31960 (July 16, 2025).

Suspension of Liquidation and Cash Deposits—CVD

In accordance with section 706 of the Act, we will instruct CBP to reinstitute suspension of liquidation on all relevant entries of overhead door springs from China, effective on the date of publication of the ITC's final affirmative injury determination in the Federal Register, and to assess, upon further instruction by Commerce, pursuant to section 706(a)(1) of the Act, countervailing duties on each entry of subject merchandise in an amount based on the net countervailable subsidy rates listed in the CVD Final Determination.¹¹ These instructions suspending liquidation will remain in effect until further notice.

¹¹ See CVD Final Determination, 90 FR 39374 at 39375.

Commerce will also instruct CBP to require cash deposits. Accordingly, effective on the date of publication of the ITC's final affirmative injury determination in the Federal Register, CBP will require, at the same time as importers would normally deposit estimated duties on the subject merchandise, a cash deposit for each entry of subject merchandise equal to the subsidy rates listed in the CVD Final Determination.¹² The all-others rate applies to all producers or exporters not specifically listed.

¹² See id.; see also section 706(a)(3) of the Act.

Provisional Measures—CVD

Section 703(d) of the Act states that the suspension of liquidation pursuant to an affirmative preliminary determination may not remain in effect for more than four months. Commerce published the CVD Preliminary Determination on April 3, 2025.¹³ As such, the four-month period beginning on the date of the publication of the Preliminary Determinations ended on July 31, 2025.

¹³ See CVD Preliminary Determination.

In accordance with section 703(d) of the Act, we will instruct CBP to terminate the suspension of liquidation and to liquidate, without regard to countervailing duties, unliquidated entries of overhead door springs from China entered, or withdrawn from warehouse, for consumption after August 1, 2025, the date on which the provisional measures expired, until and through the day preceding the date of publication of the ITC's final injury determination in the Federal Register. Suspension of liquidation and the collection of cash deposits will resume on the date of publication of the ITC's final determination in the Federal Register.

Establishment of the Annual Inquiry Service Lists

Commerce published the Final Rule and the Procedural Guidance in the Federal Register on September 20, 2021, and September 27, 2021, respectively.¹⁴ The Final Rule and Procedural Guidance provide that Commerce will maintain an annual inquiry service list for each order or suspended investigation, and any interested party submitting a scope ruling application or request for circumvention inquiry shall serve a copy of the application or request on the persons on the annual inquiry service list for that order, as well as any companion order covering the same merchandise from the same country of origin.¹⁵

¹⁴ See Regulations to Improve Administration and Enforcement on Antidumping and Countervailing Duty Laws, 86 FR 52300 (September 20, 2021) (Final Rule); and Scope Ruling Application; Annual Inquiry Service List; and Informational Sessions, 86 FR 53205 (September 27, 2021) (Procedural Guidance).

¹⁵ Id.

In accordance with the Procedural Guidance, for orders published in the Federal Register after November 4, 2021, Commerce will create an annual inquiry service list segment in Commerce's online e-filing and document management system, Antidumping and Countervailing Duty Electronic Service System (ACCESS), available at https://access.trade.gov/, within five business days of publication of the notice of the order. Each annual inquiry service list will be saved in ACCESS, under each case number, and under a specific segment type called “AISL-Annual Inquiry Service List.” ¹⁶

¹⁶ This segment will be combined with the ACCESS Segment Specific Information (SSI) field which will display the month in which the notice of the order or suspended investigation was published in the Federal Register, also known as the anniversary month. For example, for an order under case number A-000-000 that was published in the Federal Register in January, the relevant segment and SSI combination will appear in ACCESS as “AISL-January Anniversary.” Note that there will be only one annual inquiry service list per case number, and the anniversary month will be pre-populated in ACCESS.

Interested parties who wish to be added to the annual inquiry service list for an order must submit an entry of appearance to the annual inquiry service list segment for the order in ACCESS within 30 days after the date of publication of the order. For ease of administration, Commerce requests that law firms with more than one attorney representing interested parties in an order designate a lead attorney to be included on the annual inquiry service list. Commerce will finalize the annual inquiry service list within five business days thereafter. As mentioned in the Procedural Guidance,¹⁷ the new annual inquiry service list will be in place until the following year, when the Opportunity Notice for the anniversary month of the order is published.

¹⁷ See Procedural Guidance, 86 FR at 53206.

Commerce may update an annual service list at any time as needed based on interested parties' amendments to their entries of appearance to remove or otherwise modify their list of members and representatives, or to update contact information. Any changes or announcements pertaining to these procedures will be posted to the ACCESS website.

Special Instructions for Petitioners and Foreign Governments

In the Final Rule, Commerce stated that, “after an initial request and placement on the annual inquiry service list, both petitioners and foreign governments will automatically be placed on the annual inquiry service list in the years that follow.” ¹⁸ Accordingly, as stated above, the petitioner and the Government of China (GOC) should submit their initial entries of appearance after publication of this notice in order to appear in the first annual inquiry service lists for these orders for which they qualify as interested parties. Pursuant to 19 CFR 351.225(n)(3), the petitioner and the GOC will not need to resubmit their entries of appearance each year to continue to be included on the annual inquiry service list. However, the petitioner and the GOC are responsible for making amendments to their entries of appearance during the annual update to the annual inquiry service list in accordance with the procedures described above.

¹⁸ See Final Rule, 86 FR at 52335.

Notification to Interested Parties

This notice constitutes the AD and CVD orders with respect to overhead door springs from China pursuant to section 736(a) and 706(a) of the Act. Interested parties can find a list of AD and CVD orders currently in effect at https://www.trade.gov/data-visualization/adcvd-proceedings.

These orders are published in accordance with sections 736(a) and 706(a) of the Act, and 19 CFR 351.211(b).

Dated: January 20, 2026.
Christopher Abbott,
Deputy Assistant Secretary for Policy and Negotiations, performing the non-exclusive functions and duties of the Assistant Secretary for Enforcement and Compliance.

Appendix

Scope of the Orders

The merchandise covered by these orders is helically-wound, overhead door counterbalance torsion steel springs (overhead door counterbalance torsion springs) and any cones, plugs or other similar fittings for mounting and creating torque in the spring (herein collectively referred to as cones) attached to or entered with and invoiced with the subject overhead door counterbalance torsion springs. Overhead door counterbalance torsion springs are helical steel springs with tightly wound coils that store and release mechanical energy by winding and unwinding along the spring's axis by an angle, using torque to create a lifting force in the counterbalance assembly typically used to raise and lower overhead doors, including garage doors, industrial rolling doors, warehouse doors, trailer doors, and other overhead doors, gates, grates, or similar devices. The merchandise covered by this investigation covers all overhead door counterbalance torsion springs with a coil inside diameter of 15.8 millimeters (mm) or more but not exceeding 304.8 mm (measured across the diameter from inner edge to inner edge); a wire diameter of 2.5 mm to 20.4 mm; a length of 127 mm or more; and regardless of the following characteristics:

• wire type (including, but not limited to, oil-tempered wire, hard-drawn wire, music wire, galvanized or other coated wire);

• wire cross-sectional shape (e.g., round, square, or other shapes);

• coating (e.g., uncoated, oil- or water-based coatings, lubricant coatings, zinc, aluminum, zinc-aluminum, paint or plastic coating, etc.);

• winding orientation (left-hand or right-hand wind direction);

• end type (including, but not limited to, looped, double looped, clipped, long length, mini warehouse, Barcol, Crawford, Kinnear, Wagner, rolling steel or barrel ends); and

• whether the overhead door counterbalance torsion springs are fitted with hardware, including but not limited to fasteners, clips, and cones (winding or stationary cones).

For purposes of the diameters referenced above, where the nominal and actual measurements vary, a product is within the scope if application of either the nominal or actual measurement would place it within the scope based on the definitions set forth above.

The steel torsion springs included in the scope of these orders are produced from steel in which: (1) iron predominates, by weight, over each of the other contained elements; and (2) the carbon content is 2 percent or less, by weight.

Subject merchandise includes cones attached to or entered with and invoiced with the subject overhead door counterbalance torsion springs. Such cones, which are typically cast aluminum, aluminum alloy or steel (but may be made from other materials) are made to mount the subject springs to the overhead door counterbalance system and create and maintain torque in the spring. Cones or other similar fittings that are not attached to the subject springs or are not entered with and invoiced with the subject springs are not included within the scope unless entered as parts of kits as described below.

Subject merchandise also includes all subject overhead door counterbalance torsion springs and cones or other similar fittings for mounting and tensioning the spring entered as a part of overhead door kits, overhead door mounting or assembly kits, or as a part of a spring-operated motor assembly or as a part of a spring winder assembly kit for torsion springs. When counterbalance torsion springs and cones or other similar fittings for attaching and tensioning the torsion spring are entered as a part of such kits, only the counterbalance spring and cones or other similar fittings in the kit are within scope.

Subject merchandise also includes overhead door counterbalance torsion springs that have been further processed in a third country, including but not limited to cutting to length, attachment of hardware, cones or end-fittings, inclusion in garage door kits or garage door mounting or assembly kits, or any other processing that would not remove the merchandise from the scope of these orders if performed in the country of manufacture of the in-scope overhead door counterbalance torsion springs.

All products that meet the written physical description are within the scope of these orders unless specifically excluded. The following products are specifically excluded from the scope of these orders:

• leaf springs (slender arc-shaped length of spring steel of a rectangular cross-section);

• disc springs (conical springs consisting of a convex disc with the outer edge working against the center of the disc);

• extension springs (close-wound round helical wire springs that store and release energy by resisting the external pulling forces applied to the spring's ends in the direction of its length);

• compression springs (helical coiled springs with open wound active coils (such open winding is also known as pitch) that are designed to compress under load or force); and

• spiral springs (torsion springs wound as concentric spirals such as a clock spring or mainspring).

The products subject to these orders are currently classified under Harmonized Tariff Schedule of the United States (HTSUS) subheadings 7320.20.5020, 7320.20.5045, and 7320.20.5060. They may also be classified under HTSUS subheading 8412.90.9085 if entered as parts of spring-operated motors. They may also be classified in HTSUS subheading 8412.80.1000 (spring-operated motors) if entered as part of a spring counterweight assembly for an overhead door. They may also be classified in HTSUS subheading 7308.90.9590, a basket category that includes metal garage doors entered with mounting accessories or assemblies.

Although the HTSUS subheadings are provided for convenience and customs purposes, the written description of the subject merchandise is dispositive.

[FR Doc. 2026-01282 Filed 1-22-26; 8:45 am]

BILLING CODE 3510-DS-P